DEPARTMENT OF HEALTH AND HUMAN SERVICES

National Institutes of Health

Center for Scientific Review; Amended Notice of Meeting

Notice is hereby given of a change in the meeting of the Center for Scientific Review Special Emphasis Panel, July 15, 2002, 1 p.m. to July 15, 2002, 2 p.m., NIH, Rockledge 2, Bethesda, MD 20892 which was published in the Federal Register on July 1, 2002, 67 FR 44224-44227.

The meeting will be held on July 25, 2002. The time and location remain the same. The meeting is closed to the public.

Dated: July 18, 2002.
LaVerne Y. Stringfield,
Director, Office of Federal Advisory Committee Policy.

[FR Doc. 02-18806 Filed 7-24-02; 8:45 am]

BILLING CODE 4140-01-M